ENVIRONMENTAL PROTECTION AGENCY

[EPA-HQ-OPP-2005-0471; FRL-7763-7]

FIFRA Scientific Advisory Panel; Notice of Cancellation of Public Meeting

AGENCY: Environmental Protection Agency (EPA).

ACTION: Notice.

SUMMARY: The Agency is issuing this notice to cancel a meeting of the FIFRA Scientific Advisory Panel. This meeting was originally announced in the Federal Register of January 30, 2006.

FOR FURTHER INFORMATION CONTACT: Myrta R. Christian, DFO, Office of Science Coordination and Policy (7201M), Environmental Protection Agency, 1200 Pennsylvania Ave., NW., Washington, DC 20460; telephone number: (202) 564-8498; fax number: (202) 564-8382; e-mail addresses: christian.myrta@epa.gov.

SUPPLEMENTARY INFORMATION: The April 4-6, 2006, Federal Insecticide, Fungicide, and Rodenticide Act Scientific Advisory Panel (FIFRA SAP) meeting to consider the Review of Worker Exposure Assessment Methods has been cancelled. This meeting was originally announced in the Federal Register of January 30, 2006 (71 FR 4910; FRL-7760-1). For further information, please notify the Designated Federal Official (DFO) listed under FOR FURTHER INFORMATION CONTACT.

List of Subjects

Environmental protection, Pesticides and pests.

Dated: February 8, 2006.
Clifford Gabriel,
Director, Office of Science Coordination and Policy.

[FR Doc. E6-2150 Filed 2-14-06; 8:45 am]

BILLING CODE 6560-50-S